AGENCY FOR INTERNATIONAL DEVELOPMENT

Board for International Food and Agricultural Development, One Hundred and Thirty Second Meeting; Notice of Meeting

Pursuant to the Federal Advisory Committee Act, notice is hereby given of the one hundred and thirty second meeting of the Board for International Food and Agricultural Development (BIFAD). The meeting will be held from 8:30 a.m. to 4:00 p.m. on June 8th, 2000, and from 9 a.m. to 12:40 p.m. on June 9th, 2000, in the Hemisphere A room in the Ronald Reagan Building, 1300 Pennsylvania Avenue, NW., Washington, DC.

As part of its agenda, BIFAD will look at the coming crisis in water and its implications for agriculture. BIFAD will also examine the food security crisis in the Horn of Africa, its political and agroclimatic underpinnings, food aid, post crisis development, and medium-term climate prediction. BIFAD will also hear about building new coalitions for foreign aid.

Those wishing to attend the meeting or obtain additional information about BIFAD should contact Mr. Charles Uphaus, the Acting Designated Federal Officer for BIFAD. He can be reached at the Agency for International Development, Ronald Reagan Building, Office of Agriculture and Food Security, 1300 Pennsylvania Avenue, NW., Room 2.11-01. Washington DC, 20523-2110, by telephone at (202) 712-1172, by fax (202) 216-3060, or by e-mail at cuphaus@usaid.gov.

Charles Uphaus,
USAID Acting Designated Federal Officer for BIFAD, Office of Agriculture and Food Security, Economic Growth Center, Bureau for Global Programs.

[FR Doc. 00-12999 Filed 5-23-00; 8:45 am]

BILLING CODE 6116-01-M